DEPARTMENT OF THE INTERIOR

Fish and Wildlife Service

[FWS-HQ-R-2013-N274; FXFR13350900000-134-FF09F14000]

Voluntary Guidelines To Prevent the Introduction and Spread of Aquatic Invasive Species; Recreational Activities and Water Gardening

AGENCY: Fish and Wildlife Service, Interior.

ACTION: Notice of availability of final documents.

SUMMARY: The U.S. Fish and Wildlife Service (Service) announces the availability of two final documents for public outreach use:

• Voluntary Guidelines to Prevent the Introduction and Spread of Aquatic Invasive Species: Recreational Activities

• Voluntary Guidelines to Prevent the Introduction and Spread of Aquatic Invasive Species: Water Gardening

These voluntary guidelines are intended to be used by agencies and organizations to develop materials that inform the public and industry about the risks associated with many everyday activities that may spread aquatic invasive species and harm the environment and the economy. The intent of this information is to encourage the public and industry to take precautions to limit the spread of aquatic invasive species.

ADDRESSES: Obtaining Documents: The two documents may be obtained online, by mail, or by email:

• Online: http://anstaskforce.gov/documents.php;

• U.S. mail: U.S. Fish and Wildlife Service, Branch of Aquatic Invasive Species, 4401 N. Fairfax Drive, Room 740, Arlington, VA 22203; or

• Email: Laura_Norcutt@fws.gov.

FOR FURTHER INFORMATION CONTACT: Laura Norcutt, 703-358-2398.

SUPPLEMENTARY INFORMATION:

Background

Through provisions in title 50, part 16, of the Code of Federal Regulations (CFR), the U.S. Fish and Wildlife Service (Service) regulates the importation and interstate transport of certain aquatic invasive species that have been determined to be injurious. The Nonindigenous Aquatic Nuisance Prevention and Control Act of 1990 (16 U.S.C. 4701 et seq.) established the Aquatic Nuisance Species Task Force (ANSTF), an intergovernmental organization co-chaired by the Service and the National Oceanic and Atmospheric Administration and dedicated to the development and implementation of a program for U.S. waters to prevent introduction and disposal of aquatic invasive species (AIS); to monitor, control, and study such species; and to disseminate related information. In 2000, the ANSTF developed Recommended Voluntary Guidelines for Preventing the Spread of Aquatic Nuisance Species Associated with Recreational Activities and announced the availability of the guidelines via a Federal Register notice (65 FR 82447; December 28, 2000).

Development of Draft Guidelines Documents

In 2011, the ANSTF established committees to revise the Recommended Voluntary Guidelines for Preventing the Spread of Aquatic Nuisance Species Associated with Recreational Activities and to develop new guidelines that would prevent the spread of aquatic invasive species by water gardening. The goal of the two committees was to develop clear, easy-to-use standardized national guidelines that are easily communicated to user groups and can be incorporated into education and outreach media. An additional benefit to recreationists and water gardeners who follow these guidelines is to avoid possible violation of Federal, Tribal, and State laws that prohibit the transport of aquatic invasive species. Public comment was requested via a Federal Register notice (78 FR 39310; July 1, 2013). Comments were addressed, and the documents were modified accordingly. There were no substantive comments.

Recreational Activities

The revised document, Voluntary Guidelines to Prevent the Introduction and Spread of Aquatic Invasive Species: Recreational Activities will provide guidance to agencies, organizations, and the public on preventing the spread of aquatic invasive species through activities such as angling, boating, scuba diving, waterfowl hunting, and operating seaplanes.

Water Gardening

The Voluntary Guidelines to Prevent the Introduction and Spread of Aquatic Invasive Species: Water Gardening will provide guidelines to address the potential spread of aquatic invasive species by water gardening to be used by agencies, organizations, and the public for education and outreach.

Availability of Documents

The two sets of guidelines are available on the ANSTF Web site, by U.S. mail from the Service or by email (see ADDRESSES) for public outreach use.

Dated: May 20, 2014.
Rowan W. Gould,
Acting Director, U.S. Fish and Wildlife Service.

[FR Doc. 2014-12977 Filed 6-3-14; 8:45 am]

BILLING CODE 4310-55-P